NEIGHBORHOOD REINVESTMENT CORPORATION

Sunshine Act Meeting; Finance, Budget & Program Committee Meeting of the Board of Directors

TIME and DATE: 2:00 p.m., Wednesday, March 5, 2014.

PLACE: NeighborWorks America—Gramlich Boardroom, 999 North Capitol Street NE., Washington DC 20002.

STATUS: Open (with the exception of Executive Session).

CONTACT PERSON: Jeffrey Bryson, General Counsel/Secretary, (202) 760-4101; jbryson@nw.org.

AGENDA:

I. Call to Order

II. Executive Session: Management Internal Operation Review

III. Lease Renewal Parameters

IV. Sustainable Homeownership Project Management

V. CHC & NC Grants

VI. Successor to CounselorMax

VII. FY14/FY15 Budget

VIII. A. Financial Report

VIII. B. Quarterly Program Reports

VIII. C. Corporate Scorecard Report

VIII. D. Grants Report

IX. Adjournment

Jeffrey T. Bryson,
EVP & General Counsel/Corporate Secretary.

[FR Doc. 2014-04172 Filed 2-21-14; 4:15 pm]

BILLING CODE 7570-02-P